DEPARTMENT OF ENERGY

Federal Energy Regulatory Commission

[Docket Nos. RP11-2328-000; RP04-274-000; RP11-2356-000]

Kern River Gas Transmission Company; Notice of Technical Conference

On July 29, 2011, pursuant to section 4 of the Natural Gas Act (NGA), Kern River Gas Transmission Company (Kern River) filed revised tariff records in Docket No. RP11-2328-000, to amend several provisions under certain firm rate schedules, which it refers to as the “Self-Contained Rate Schedules.” ¹ Kern River proposed to limit service under these rate schedules exclusively to the currently effective contracts of shippers taking service under those rate schedules and to require all other firm shippers to take service under its standard firm open access transportation Rate Schedule KRF-1. Kern River also proposed to include in its tariff a pro forma agreement applicable to rollover service under the subject rate schedules. On August 29, 2011, the Commission accepted and suspended the tariff records proposed to be effective February 1, 2012, subject to refund and to the outcome of a technical conference. Kern River Gas Transmission Company, 136 FERC ¶ 61,140 (2011).

¹ The Rate Schedules subject to the instant filing are Rate Schedules CH-1, MO-1, SH-1, and UP-1.

Take notice that a technical conference to discuss the differences in the terms and conditions of service between the Self-Contained Rate Schedules and Rate Schedule KRF-1 and other related issues encompassed by Docket Nos. RP04-274-000 and RP11-2356-000, will be held on, Tuesday, October 4, 2011 at 10 a.m. (EST), in a room to be designated at the offices of the Federal Energy Regulatory Commission, 888 First Street, NE., Washington, DC 20426.

Federal Energy Regulatory Commission conferences are accessible under section 508 of the Rehabilitation Act of 1973. For accessibility accommodations please send an e-mail to accessibility@ferc.gov or call toll free 1-866-208-3372 (voice) or 202-502-8659 (TTY), or send a FAX to 202-502-2106 with the required accommodations.

All interested persons, parties, and staff are permitted to attend. For further information please contact Robert D. McLean (202) 502-8156.

Dated: September 20, 2011.
Kimberly D. Bose,
Secretary.

[FR Doc. 2011-24766 Filed 9-26-11; 8:45 am]

BILLING CODE 6717-01-P